DEPARTMENT OF THE TREASURY

Internal Revenue Service

26 CFR Part 1

[REG-126633-12]

RIN 1545-BL05

Computation of, and Rules Relating to, Medical Loss Ratio; Hearing Cancellation

AGENCY: Internal Revenue Service (IRS), Treasury.

ACTION: Cancellation of a notice of public hearing on proposed rulemaking.

SUMMARY: This document cancels a public hearing on proposed regulations that provide guidance to Blue Cross and Blue Shield organizations, and certain other health care organizations, on computing and applying the medical loss ratio added to the Internal Revenue Code by the Patient Protection and Affordable Care Act.

DATES: The public hearing originally scheduled for September 17, 2013 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on May 13, 2013 (78 FR 27873) announced that a public hearing was scheduled for September 17, 2013, at 10 a.m. in the IRS Auditorium, Internal Revenue Building, 1111 Constitution Avenue NW., Washington, DC. The subject of the public hearing is under section 833 of the Internal Revenue Code.

The public comment period for these regulations expired on August 12, 2013. The notice of proposed rulemaking and notice of public hearing instructed those interested in testifying at the public hearing to submit a request to speak and an outline of the topics to be addressed. As of Monday, August 26, 2013, no one has requested to speak. Therefore, the public hearing scheduled for September 17, 2013, is cancelled.

Martin V. Franks,
Chief, Publications and Regulations Branch, Legal Processing Division, Associate Chief Counsel (Procedure and Administration).

[FR Doc. 2013-21246 Filed 8-29-13; 8:45 am]

BILLING CODE 4830-01-P